DEPARTMENT OF ENERGY

10 CFR Part 719

48 Parts 931, 952 and 970

RIN 1990-AA37

Contractor Legal Management Requirements; Acquisition Regulations

AGENCY: Office of General Counsel, Department of Energy.

ACTION: Reopening of public comment period.

SUMMARY: This document announces a reopening of the time period for submitting comments on the Department of Energy (DOE or Department) notice of proposed rulemaking (NOPR) to revise existing regulations covering contractor legal management requirements and make conforming amendments to the Department of Energy Acquisition Regulation (DEAR) (76 FR 81408). The comment period is reopened until March 16, 2012.

DATES: The comment period for the request for information relating to the DOE notice of proposed rulemaking to revise existing regulations covering contractor legal management requirements and make conforming amendments to the DEAR is reopened until March 16, 2012.

ADDRESSES: Any comments submitted must identify this NOPR on Contractor Legal Management Requirements, and provide regulatory information number (RIN) 1990-AA37. Comments may be submitted using any of the following methods:

1. Federal eRulemaking Portal: www.regulations.gov. Follow the instructions for submitting comments.

2. Email: DOE.719comments@hq.doe.gov. Include RIN 1990-AA37 in the subject line of the message.

3. Mail: Lisa Pinder, Administrative Assistant, U.S. Department of Energy, Office of General Counsel, GC-60, 1000 Independence Ave. SW., Washington, DC 20585. If possible, please submit all items on a compact disc (CD), in which case it is not necessary to include printed copies.

4. Hand Delivery/Courier: Ms. Lisa Pinder, Administrative Assistant, U.S. Department of Energy, GC-60, 1000 Independence Ave. SW., Washington, DC 20585. Telephone: (202) 586-5426. If possible, please submit all items on a CD, in which case it is not necessary to include printed copies.

No faxes will be accepted.

For further information on how to submit a public comment, review other public comments and the docket, contact Ms. Lisa Pinder (202) 586-5426 or by Email: lisa.pinder@hq.doe.gov.

FOR FURTHER INFORMATION CONTACT: Mr. Eric Mulch, Attorney-Adviser, U.S. Department of Energy, Office of General Counsel, 1000 Independence Avenue SW., Washington, DC 20585-0121. Telephone: (202) 287-5746. Email: eric.mulch@hq.doe.gov.

SUPPLEMENTARY INFORMATION: On December 28, 2011, The DOE published a NOPR in the Federal Register (76 FR 81408) to revise existing regulations covering contractor legal management requirements and make conforming amendments to the DEAR. The NOPR requested public comment from interested parties regarding the proposed revisions by February 27, 2012. DOE has determined that reopening the comment period to allow additional time for interested parties to submit comments is appropriate. Therefore, DOE is reopening the comment period until March 16, 2012 to provide interested parties additional time to prepare and submit comments. Accordingly, DOE will consider any comments received by March 16, 2012 to be timely submitted.

Issued in Washington, DC, on February 27, 2012.
Paul Bosco,
Director, Office of Procurement and Assistance Management, Department of Energy.
Barbara Stearrett,
Deputy Director, Office of Acquisition, Management, National Nuclear Security Administration.

[FR Doc. 2012-5113 Filed 3-1-12; 8:45 am]

BILLING CODE 6450-01-P